DEPARTMENT OF DEFENSE

Department of the Army

[Docket ID USA-2019-HQ-0023]

Proposed Collection; Comment Request

AGENCY: Office of the Assistant Secretary of the Army for Civil Works (ASA(CW)), U.S. Army Corps of Engineers, DoD.

ACTION: Information collection notice.

SUMMARY: In compliance with the Paperwork Reduction Act of 1995, the Office of the Secretary of the Army for Civil Works (ASA(CW)) announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by August 27, 2019.

ADDRESSES: You may submit comments, identified by docket number and title, by any of the following methods:

Federal eRulemaking Portal: http://www.regulations.gov. Follow the instructions for submitting comments.

Mail: Department of Defense, Office of the Chief Management Officer, Directorate for Oversight and Compliance, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to U.S. Army Corps of Engineers, Directorate of Civil Works, Office of Planning and Policy, ATTN: Jeffrey Strahan, 441 G Street, Washington, DC 20314, or call (202) 761-8643. Another point of contact is the U.S. Army Corps of Engineers, Institute for Water Resources, ATTN: Kevin Knight, 7701 Telegraph Road, Alexandria, VA 22315, or call (703) 428-7250.

SUPPLEMENTARY INFORMATION: Title; Associated Form; and OMB Number: Corps of Engineers Navigation Surveys; OMB Control Number 0710-XXXX.

Needs and Uses: The data obtained from these surveys are used by the Army Corps of Engineers to estimate the shipper's response to changes in waterway attributes (such as congestion, reliability, rates and travel time). Hence, the overall objective of the proposed research is to develop shipper response function estimates for the Ohio River Waterway System.

Affected Public: Business or other For-Profit. All commercial commodity shippers, with a focus on grain as the primary commodity in the Ohio River Navigational system. For the purposes of this study, a shipper is defined as a company that sends or transports the good.

Annual Burden Hours: 293.5.

Number of Respondents: 1,174.

Responses per Respondent: 1.

Annual Responses: 1,174.

Average Burden per Response: 15 minutes.

Frequency: On occasion.

Dated: June 25, 2019.
Aaron T. Siegel,
Alternate OSD Federal Register Liaison Officer, Department of Defense.

[FR Doc. 2019-13843 Filed 6-27-19; 8:45 am]

BILLING CODE 5001-06-P